DEPARTMENT OF COMMERCE

International Trade Administration

[A-449-804]

Notice of Preliminary Results of Antidumping Duty Administrative Review: Steel Concrete Reinforcing Bars from Latvia

AGENCY: Import Administration, International Trade Administration, Department of Commerce.

SUMMARY: The Department of Commerce (the Department) is conducting an administrative review of the antidumping duty order on steel concrete reinforcing bars (rebar) from Latvia. We preliminarily determine that sales of subject merchandise by Joint Stock Company Liepajas Metalurgs (LM) have been made below normal value (NV). If these preliminary results are adopted in our final results, we will instruct U.S. Customs and Border Protection (CBP) to assess antidumping duties on appropriate entries based on the difference between the export price (EP) and the NV. Interested parties are invited to comment on these preliminary results.

EFFECTIVE DATE: June 4, 2007.

FOR FURTHER INFORMATION CONTACT: David Layton at (202) 482-0371; AD/CVD Operations, Office 1, Import Administration, International Trade Administration, U.S. Department of Commerce, 14th Street & Constitution Avenue, NW., Washington, DC 20230.

SUPPLEMENTARY INFORMATION:

Background

On September 7, 2001, the Department published an antidumping duty order on rebar from Latvia. See Antidumping Duty Orders: Steel Concrete Reinforcing Bars From Belarus, Indonesia, Latvia, Moldova, People's Republic of China, Poland, Republic of Korea and Ukraine, 66 FR 46777 (September 7, 2001). On September 1, 2006, the Department published a notice of opportunity to request an administrative review of the antidumping duty order of rebar from Latvia for the fifth period of review which covers September 1, 2005, through August 31, 2006 (POR). See Antidumping or Countervailing Duty Order, Finding, or Suspended Investigation; Opportunity to Request Administrative Review, 71 FR 52061 (September 1, 2006). On September 29, 2006, in accordance with 19 CFR 351.213(b)(1), the petitioner¹ requested an administrative review of LM.

¹ The petitioner is the Rebar Trade Action Coalition (RTAC) which comprises Nucor Corporation, Gerdau Ameristeel Corporation, and Commercial Metals Company.

On October 31, 2006, the Department published the initiation of the fifth administrative review of the antidumping duty order on rebar from Latvia. See Initiation of Antidumping and Countervailing Duty Administrative Reviews, 71 FR 63752 (October 31, 2006). On November 9, 2006, LM submitted a letter to the Department in which it certified that it made no sales of subject merchandise to the United States during the POR but acknowledged subject merchandise may have entered the United States during the POR. On November 21, 2006, the petitioner submitted comments regarding LM's claim of no sales. On April 9, 2007, and May 9, 2007, we placed memoranda on the file that provided the results of the Department's query of Customs and Border Protection (CBP) data regarding sales of subject merchandise during the POR. See Memorandum to File from Saliha Loucif: Query of U.S. Customs and Border Protection Database for Sales During the Fifth Administrative Review (April 9, 2007) (Data Query Memo) and Memorandum to File from David Layton: Placement of Additional Documents on the Record (May 9, 2007) (Record Memo). On April 9, 2007, and May 9, 2007, we also placed certain documents from the final results of the fourth administrative review of the antidumping order on steel concrete reinforcing bars from Latvia (covering the period September 1, 2004 through August 31, 2005) on the record of the current administrative review. See Memorandum to File from Saliha Loucif: Copying of documents from the record of the fourth administrative review in the record of the fifth administrative review (Fourth Review Documents Memo) and Record Memo. After placing the fourth review documents on the record on April 9, 2007, we gave parties until April 21, 2007, to submit comments. LM submitted comments on April 20, 2007. After placing additional documents on the record on May 9, 2007, we gave parties until May 21, 2007, to comment.

Scope of The Order

The product covered by this order is all steel concrete reinforcing bars sold in straight lengths, currently classifiable in the Harmonized Tariff Schedule of the United States (HTSUS) under item numbers 7214.20.00, 7228.30.8050, 7222.11.0050, 7222.30.0000, 7228.60.6000, 7228.20.1000, or any other tariff item number. Specifically excluded are plain rounds (i.e., non-deformed or smooth bars) and rebar that has been further processed through bending or coating. HTSUS subheadings are provided for convenience and customs purposes. The written description of the scope of the order is dispositive.

Analysis of Responses

On November 9, 2006, the Department received a letter from LM certifying that LM made no sales of subject merchandise to the United States during the period of review. In the same submission, LM also stated that “{a}lthough it may be possible that LM's U.S. customers may have entered subject merchandise into the United States during the fifth period of review, any such entries would consist entirely of sales of LM merchandise that were subject to the review by the Department in the context of the ongoing fourth review of this antidumping order.”

On November 15, 2006, the petitioner responded to LM's comments, providing public available trade data which confirmed the existence of entries of subject merchandise from Latvia during the POR. In its submission, the petitioner stated that the issue of whether LM made no sales of subject merchandise must be decided by the Department through the process of the administrative review and argued that, given the existence of relevant entries in the POR, there is no basis to rescind the review initiated on October 31, 2006.

The Department conducted a CBP entry data query to check for any entries of subject merchandise into the United States during the POR. See Data Query Memo and Records Memo. The Department's review of the CBP data query results shows entries during the POR of merchandise produced by LM. However, we found that all such entries were related to sales made during the period covered by the fourth administrative review, which extends from September 1, 2004, through August 31, 2005, and were already examined in the context of the fourth review. We tied these entries in the CBP data to LM's sales database by port of entry, importer and quantity. See Memorandum from David Layton, Analysis Memorandum: Preliminary Determination of Cash Deposit and Assessment Rates (May 25, 2007) (Preliminary Analysis Memo). Consequently, as part of our analysis, we considered the relevant data from the fourth review which were placed on the record of the instant review. See Fourth Review Documents Memo and Records Memo.

On April 9, 2007, and May 9, 2007, we invited the petitioner and LM to comment on the addition of the relevant data from the fourth review to the record of the instant review. See Letters from the Department to the petitioner and LM regarding the addition of documents into the record of the fifth administrative review of rebar from Latvia, April 9, 2007 and May 9, 2007. On April 20, 2007, LM submitted comments restating that it made no sales to the United States during the POR covered by the fifth administrative review. LM noted that in the third and fourth administrative reviews, the Department treated LM's date of contract as the date of sale and thus the date of sale predates the invoice/shipment date. LM argued that due to the application of this date-of-sale methodology, an entry date in the POR of the fifth administrative does not mean that a U.S. sale of subject merchandise was made in that period. LM stated that the information put on the record by the Department on April 9, 2007 confirms that the merchandise entered in the United States in September 2005 was previously subject to analysis in the fourth administrative review. LM maintains that because information on the record indicates that it made no sales during the current POR, the review should be rescinded.

Section 751(a)(2)(A)(ii) of the Tariff Act of 1930, as amended, instructs the Department, when conducting administrative reviews, to determine the dumping margin for each entry. As noted above, because all entries of merchandise produced by LM in the instant review were related to sales that were reviewed in the fourth administrative review, the sales related to those entries have already been included in the calculations of cash deposit and assessment rates in that review. Thus, we have preliminarily determined to apply the assessment rates calculated in the fourth review to the entries in this, the fifth, review. In this case, we have decided to apply the assessment rate that was based upon specific sales made in the fourth review to entries of merchandise made during the instant review because the evidence on the record of this case has provided direct linkage between the fourth review sales and the fifth review entries. Moreover, as there was no assessment of antidumping duties related to the specific sales at issue from the fourth review, there is no issue of double-counting antidumping duties. Finally, as we have not recalculated dumping margins in this review, the cash deposit rate calculated in the fourth review will continue to apply. See Preliminary Analysis Memo.

Preliminary Results of Review

As a result of this review, we preliminarily determine that the following weighted-average margin exists for the period September 1, 2005, through August 31, 2006:

Producer | Weighted-Average Margin (Percentage)
Joint Stock Company Liepajas Metalurgs | 5.94

The Department will disclose calculations performed in accordance with 19 CFR 351.224(b). An interested party may request a hearing within 30 days of publication of these preliminary results. See 19 CFR 351.310(c). Any hearing, if requested, will be held 44 days after the date of publication, or the first working day thereafter. Interested parties may submit case briefs and/or written comments no later than 30 days after the date of publication of these preliminary results. See 19 CFR 351.309(c)(ii). Rebuttal briefs and rebuttals to written comments, limited to issues raised in such briefs or comments, may be filed no later than 37 days after the date of publication. Parties who submit arguments are requested to submit with the argument (1) a statement of the issue, (2) a brief summary of the argument, and (3) a table of authorities. Further, the parties submitting written comments should provide the Department with an additional copy of the public version of any such comments on diskette.

The Department will issue the final results of this administrative review, which will include the results of its analysis of issues raised in any such comments, within 120 days of publication of these preliminary results.

Assessment

Pursuant to 19 CFR 351.212(b), the Department calculates an assessment rate on all appropriate entries. We calculate importer-specific duty assessment rates on the basis of the ratio of the total amount of antidumping duties calculated for the examined sales to the total quantity of the sales for that importer. Where the assessment rate is above de minimis, we instruct CBP to assess duties on all entries of subject merchandise by that importer. As explained above, the Department will apply the importer-specific assessment rates calculated in the previous review.

The Department clarified its “automatic assessment” regulation on May 6, 2003 (68 FR 23954). This clarification will apply to entries of subject merchandise during the POR produced by companies included in these preliminary results of review for which the reviewed companies did not know their merchandise was destined for the United States. In such instances, the Department will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following cash deposit requirements were effective upon publication of the final results of the previous administrative review (see Notice of Final Results of Antidumping Duty Administrative Review: Steel Concrete Reinforcing Bars from Latvia, 71 FR 74900 (December 13, 2006)) for all shipments of rebar from Latvia entered, or withdrawn from warehouse, for consumption on or after December 13, 2006, as provided by section 751(a)(1) of the Act, and will continue to be in effect: (1) the cash deposit rate listed above for LM will be 5.94 percent; (2) for previously reviewed or investigated companies not listed above, the cash deposit rate will continue to be the company-specific rate published for the most recent period; (3) if the exporter is not a firm covered in this review, a prior review, or the less-than-fair-value (LTFV) investigation, but the manufacturer is, the cash deposit rate will be the rate established for the most recent period for the manufacturer of the merchandise; and (4) if neither the exporter nor the manufacturer is a firm covered in this or any previous review conducted by the Department, the cash deposit rate will be 17.21 percent, the “All Others” rate established in the LTFV investigation. These cash deposit requirements shall remain in effect until further notice.

This notice serves as a preliminary reminder to importers of their responsibility under 19 CFR 351.402(f)(2) to file a certificate regarding the reimbursement of antidumping duties prior to liquidation of the relevant entities during this review period. Failure to comply with this requirement could result in the Secretary's presumption that reimbursement of antidumping duties occurred and the subsequent assessment of double antidumping duties.

This determination is issued and published in accordance with sections 751(a)(1) and 777(I)(1) of the Act.

Dated: May 25, 2007.
David M. Spooner,
Assistant Secretary for Import Administration.

[FR Doc. E7-10703 Filed 6-1-07; 8:45 am]

BILLING CODE 3510-DS-S